DEPARTMENT OF COMMERCE

International Trade Administration

[A-552-837]

Aluminum Extrusions From the Socialist Republic of Vietnam: Amended Final Affirmative Determination of Sales at Less Than Fair Value and Final Affirmative Determination of Critical Circumstances

AGENCY: Enforcement and Compliance, International Trade Administration, Department of Commerce.

SUMMARY: The U.S. Department of Commerce (Commerce) is amending its final affirmative determination in the less than fair value (LTFV) investigation of aluminum extrusions from the Socialist Republic of Vietnam (Vietnam) to correct ministerial errors. The period of investigation is April 1, 2023, through September 30, 2023.

DATES: Applicable October 28, 2024.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On October 3, 2024, Commerce published in the Federal Register its final affirmative determination of sales at LTFV and final affirmative determination of critical circumstances, in part, in the investigation of aluminum extrusions from Vietnam.¹ Also on October 3, 2024, the petitioners submitted a timely allegation that Commerce made ministerial errors in the Final Determination.² No other interested party filed an allegation of a ministerial error or submitted a rebuttal to the petitioners' ministerial error allegation. We agree that we made ministerial errors in the Final Determination, and we are amending the weighted-average dumping margin for East Asia Aluminum Company Limited (East Asia) and the non-individually examined separate rate companies. Additionally, due to our revision of the weighted-average dumping margins, we are amending our final determination of critical circumstances with respect to these companies.

¹ See Aluminum Extrusions from the Socialist Republic of Vietnam: Final Affirmative Determination of Sales at Less Than Fair Value and Final Affirmative Determination of Critical Circumstances, in Part, 89 FR 80530 (October 3, 2024) (Final Determination), and accompanying Issues and Decision Memorandum (IDM).

² See Petitioners' Letter, “Ministerial Error Allegation,” dated October 3, 2024. The petitioners are U.S. Aluminum Extruders Coalition and the United Steel, Paper and Forestry, Rubber, Manufacturing, Energy, Allied Industrial and Service Workers International Union.

Scope of the Investigation

The product covered by this investigation is aluminum extrusions from Vietnam. For a complete description of the scope of this investigation, see Final Determination.³

³ See Final Determination, 89 FR at 80533.

Amendment to the Final Determination

Commerce reviewed the record, and we agree that the errors alleged by the petitioners constitute ministerial errors within the meaning of section 735(e) of the Tariff Act of 1930, as amended (the Act) and 19 CFR 351.224(f).⁴ Specifically, we find that we made inadvertent errors in valuing East Asia's ocean freight and marine insurance expenses. Pursuant to 19 CFR 351.224(e), Commerce is amending the Final Determination to reflect the correction of the ministerial errors, as described in the Ministerial Error Memorandum.⁵ Based on the corrections, East Asia's final dumping margin changed from 14.15 percent to 16.02 percent. As a result, we are also revising the rate assigned to the non-individually examined separate rate companies from 14.15 percent to 16.02 percent. The amended estimated weighted-average dumping margins are listed in the “Amended Final Determination” section below.

⁴ See Memorandum, “Analysis of Ministerial Error Allegation,” dated concurrently with this Federal Register notice (Ministerial Error Memorandum).

⁵ Id.

Amendment to the Final Determination of Critical Circumstances, in Part

In the Final Determination, we found that critical circumstances exist with respect to the Vietnam-wide entity, but critical circumstances do not exist for imports of aluminum extrusions from Vietnam with respect to East Asia and the non-individually examined separate rate companies, pursuant to sections 735(a)(3)(A) and (B) of the Act, and 19 CFR 351.206.⁶ As a result of our amended final determination, we now find that importers of aluminum extrusions exported by East Asia and the non-individually examined separate rate companies knew or should have known that the exporter was selling the subject merchandise at less than its fair value and that there would be material injury by reason of such sales, pursuant to section 735(a)(3)(A)(ii) of the Act, and these imports of subject merchandise were massive over a relatively short period, pursuant to section 735(a)(3)(B). Accordingly, we are amending our Final Determination to find that critical circumstances do exist with respect to East Asia and the non-individually examined separate rate companies. For further discussion, see Ministerial Error Memorandum.

⁶ See Final Determination, 89 FR at 80531.

Amended Final Determination

The amended final estimated weighted-average dumping margins are as follows:

Exporter | Producer | Weighted- average dumping margin (percent)
East Asia Aluminum Company Limited | East Asia Aluminum Company Limited | 16.02
Austdoor Group Joint Stock Company | Austdoor Group Joint Stock Company | 16.02
BKQ Manufacturing and Trading Company Limited | Fravi Vietnam Group Joint Stock Company | 16.02
Viet Nam Chuangxing Aluminium Company Limited | Vietnam Yongxing Aluminium Industry Co., Ltd | 16.02
Do Thanh Aluminium Joint Stock Company | Do Thanh Aluminium Joint Stock Company | 16.02
Ha Noi DST Joint Stock Company | Ha Noi DST Joint Stock Company | 16.02
Euroha Joint Stock Company | Euroha Joint Stock Company | 16.02
Fravi Viet Nam Group Joint Stock Company | Fravi Viet Nam Group Joint Stock Company | 16.02
Gold Well Co., Ltd | Gold Well Co., Ltd | 16.02
Hong Xin Co., Ltd | Vietnam Yongxing Aluminium Industry Co., LTD | 16.02
Hyundai Aluminum Vina Shareholding Company | Hyundai Aluminum Vina Shareholding Company | 16.02
KIMSEN Industrial Corporation | KIMSEN Industrial Corporation | 16.02
Mien Hua Precision Mechanical Co., Ltd | Mien Hua Precision Mechanical Co., Ltd | 16.02
Ngoc Diep Aluminium Joint Stock Company | Ngoc Diep Aluminium Joint Stock Company | 16.02
Nhon Trach Branch of Tung Kuang Industrial Joint Stock Company | Nhon Trach Branch of Tung Kuang Industrial Joint Stock Company | 16.02
Northstar Precision (Vietnam) Co., Ltd | Northstar Precision (Vietnam) Co., Ltd | 16.02
Sapa Ben Thanh Aluminium Profiles, Co., Ltd | Sapa Ben Thanh Aluminium Profiles, Co., Ltd | 16.02
Song Hong Aluminum Shalumi Group Joint Stock Company | Song Hong Aluminum Shalumi Group Joint Stock Company | 16.02
Shinyang Metal Korea Co., Ltd | Shinyang Metal Korea Co., Ltd | 16.02
Shinyang Metal Vietnam Co., Ltd | Shinyang Metal Vietnam Co., Ltd | 16.02
Tan A Aluminum Company Limited | Tan A Aluminum Company Limited | 16.02
Tin An Investment Production Trading Joint Stock Company | Austdoor Group Joint Stock Company | 16.02
Tin An Investment Production Trading Joint Stock Company | Viet Phap Aluminium Factory—Viet Phap Shal Aluminium Joint Stock Company | 16.02
Tin Kim Plastic Joint Stock Company | Austdoor Group Joint Stock Company | 16.02
Tin Kim Plastic Joint Stock Company | Viet Phap Aluminium Factory—Viet Phap Shal Aluminium Joint Stock Company | 16.02
Tung Kuang Industrial Joint Stock Company | Tung Kuang Industrial Joint Stock Company | 16.02
Tung Shin Industrial Co., Ltd | Tung Shin Industrial Co., Ltd | 16.02
Vietnam Beta Aluminum Company Limited | Vietnam Beta Aluminum Company Limited | 16.02
Vietnam Yongxing Aluminium Industry Co., Ltd | Vietnam Yongxing Aluminium Industry Co., Ltd | 16.02

Disclosure

Commerce intends to disclose the calculations performed in this amended final determination to interested parties within five days of any public announcement or, if there is no public announcement, within five days of the date of publication of this notice in the Federal Register in accordance with 19 CFR 351.224(b).

Amended Cash Deposits and Continuation of Suspension of Liquidation

The collection of cash deposits and suspension of liquidation will be revised according to the rates established in this amended final determination, in accordance with section 735(c)(1)(B) of the Act. These rates will be effective on the date of publication of this notice in the Federal Register. These suspension of liquidation instructions will remain in effect until further notice.

In accordance with section 735(c)(4) of the Act, because Commerce now finds that critical circumstances exist for East Asia and the non-individually examined separate rate companies, Commerce intends to instruct U.S. Customs and Border Protection (CBP) to suspend liquidation of all entries of subject merchandise from these companies that were entered, or withdrawn from warehouse for consumption on or after February 7, 2024, which is 90 days before the publication of the Preliminary Determination ⁷ in the Federal Register.

⁷ See Aluminum Extrusions from the Socialist Republic of Vietnam: Preliminary Affirmative Determination of Sales at Less Than Fair Value, Postponement of Final Determination, and Extension of Provisional Measures, 89 FR 38075 (May 7, 2024).

U.S. International Trade Commission Notification

In accordance with section 735(d) of the Act, we will notify the U.S. International Trade Commission (ITC) of our amended final affirmative determination of sales at LTFV. If the ITC determines that material injury or threat of material injury does not exist, the proceeding will be terminated and all cash deposits will be refunded or canceled, and suspension of liquidation will be lifted. If the ITC determines that such injury does exist, Commerce will issue an antidumping duty order directing CBP to assess, upon further instruction by Commerce, antidumping duties on all imports of the subject merchandise that are entered, or withdrawn from warehouse, for consumption on or after the effective date of the suspension of liquidation, as discussed above in the “Amended Cash Deposits and Continuation of Suspension of Liquidation” section.

Notification to Interested Parties

This amended final determination and notice are issued and published pursuant to sections 735(d) and 777(i)(1) of the Act, and 19 CFR 351.210(c).

Dated: October 22, 2024.
Abdelali Elouaradia,
Deputy Assistant Secretary for Enforcement and Compliance.

[FR Doc. 2024-25012 Filed 10-25-24; 8:45 am]

BILLING CODE 3510-DS-P